ENVIRONMENTAL PROTECTION AGENCY

[OW-2004-0020, FRL-7840-4]

Agency Information Collection Activities: Proposed Collection; Comment Request; Willingness To Pay Survey: Phase III Cooling Water Intake Structures, EPA ICR Number 2155.01

AGENCY: Environmental Protection Agency.

ACTION: Notice.

SUMMARY: In compliance with the Paperwork Reduction Act (44 U.S.C. 3501 et seq.), this document announces that EPA is planning to submit a proposed Information Collection Request (ICR) to the Office of Management and Budget (OMB). This is a request for a new collection. Before submitting the ICR to OMB for review and approval, EPA is soliciting comments on specific aspects of the proposed information collection as described below.

DATES: Comments must be submitted on or before January 24, 2005.

ADDRESSES: Submit your comments, referencing docket ID number OW-2004-0020, to EPA online using EDOCKET (our preferred method), by e-mail to ow-docket@epa.gov, or by mail to: EPA Docket Center, Environmental Protection Agency, EPA Docket Center, Environmental Protection Agency, Water Docket, EPA West, 4101T, 1200 Pennsylvania Ave., NW., Washington, DC 20460.

FOR FURTHER INFORMATION CONTACT: Erik Helm, Office of Science and Technology, 4303T, Environmental Protection Agency, 1200 Pennsylvania Ave., NW., Washington, DC 20460; telephone number: 202-566-1066; fax number: 202-566-1054; e-mail address: helm.erik@epa.gov

SUPPLEMENTARY INFORMATION: EPA has established a public docket for this ICR under Docket ID number OW-2004-0020, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are individuals/households.

Title: Willingness to Pay Survey: Phase III Cooling Water Intake Structures.

Abstract: The U.S. Environmental Protection Agency (EPA) is in the process of developing new regulations to provide national performance standards for controlling impacts from cooling water intake structures (CWIS) for Phase III facilities under section 316(b) of the Clean Water Act (CWA). The facilities considered Phase III facilities under Clean Water Act section 316(b) regulations include existing electrical generators with cooling water intake structures that are designed to withdraw 50 million gallons of water per day or less, as well as existing manufacturing and industrial facilities with cooling water intake structures, that withdraw water from rivers, streams, lakes, reservoirs, estuaries, oceans, or other waters of the United States for cooling purposes. The regulation also establishes section 316(b) requirements for new offshore oil and gas extraction facilities.

EPA has previously published final section 316(b) regulations that address new facilities (Phase I) on December 18, 2001 (66 FR 65256) and existing large power producers (Phase II) on July 9, 2004 (69 FR 41576). See 40 CFR part 125, subparts I and J, respectively.

As required under executive Order 12866, EPA performs economic impact and cost/benefit analyses of the section 316(b) regulation for Phase III facilities. Comprehensive, appropriate estimates of total resource value include both use and non-use values, such that the resulting total social benefit estimates may be compared to total social cost. Developing comprehensive quantified benefit estimates for the section 316(b) regulation requires consideration of non-use values because nearly all (96 percent) of impingement and entrainment losses at CWIS consist of either forage species, or non-landed recreational and commercial species that do not have direct uses or, as a result, direct use values. Although individuals do not use these resources directly they may nevertheless be affected by changes in resource status or quality, such that they would be willing to pay to maintain these resources. It is generally accepted that non-use values may be substantial in some cases, and that failure to recognize such values may lead to improper inferences regarding policy benefits and costs. Many public comments on the proposed section 316(b) regulation for Phase II facilities and the Phase II Notice of Data Availability suggested that a properly designed and conducted stated preference, or contingent valuation (CV), survey would be the most appropriate and acceptable method to estimate the non-use benefits of the rule.¹ Stated preference survey methodology is the generally accepted means to estimate non-use values. Stated preference surveys use carefully designed questions to elicit respondents' willingness to pay (WTP) for particular ecological improvements, based on their responses to either discrete choice or open-ended questions regarding hypothetical resource improvements or programs. Such improvements may include increased protection of aquatic habitats or species with particular attributes.

¹ For detail see “Phase II—Large Existing Electric Generating Plants Response to Public Comment,” U.S. EPA, 2004. Available at: http://www.epa.gov/waterscience/316b/commentph2.htm.

To assess public policy significance or importance of the ecological gains from the section 316(b) regulation for Phase III facilities, EPA proposes to develop a stated preference study to measure non-use benefits of reduced fish losses at CWIS due to the section 316(b) regulation. The study would focus on a broad range of aquatic species, including forage fish and a variety of fish species harvested by commercial and recreational fisherman. The estimated values of reducing impingement and entrainment losses of a variety of fish species are also of academic interest since past studies focused only on a few selected fish species such as salmon and striped bass. The findings from this study would be used in developing estimates of the economic benefits of the section 316(b) regulation for Phase III facilities. These findings would also be pertinent to economists and policy makers studying changes in fish populations and aquatic habitat improvements.

The purpose of this information collection is to assist in the development of a stated preference survey that would allow estimation of non-use benefits from reduced impingement and entrainment attributable to the section 316(b) regulation for Phase III facilities. To assist in the development of a stated preference survey, EPA will conduct a series of focus groups. Such use of focus groups to assist in the design of stated preference surveys is well-established, as is the capacity of focus groups to provide insight into motivations underlying respondents' stated WTP values (Mitchell and Carson 1989; Desvousges et al. 1984; Desvousges and Smith 1988; Johnston et al. 1995). Focus groups are often described as “informal sessions in which a skilled moderator leads a group of individuals through a discussion of specific topics to discover their attitudes and opinions” (Desvousges et al. 1984, p. 2-1, cited in Johnston et al. 1995 p. 56). Following standard practice, EPA will use focus groups to better understand the public's perceptions and attitude concerning fishery resources, to frame and define [CV] survey questions and to pretest draft survey questions. Focus groups will also be used, following advice of Mitchell and Carson (1989), Desvousges et al. (1984), Johnston et al. (1995), to test for and eliminate or reduce potential biases which may be associated with stated preference methodology, and to ensure that both researchers and respondents share interpretations of survey language and scenarios.

EPA proposes to conduct 12 focus groups at different locations across the United States. The number of planned focus groups is based on an average number of focus groups used in prior stated preference studies to design a draft survey. Following generally accepted practice (e.g., Desvousges et al. 1984), EPA would recruit seven to nine individuals for each focus group. These individuals will be randomly selected by commercial marketing research firms from panels of focus group participants maintained by each firm. Participants will be asked to attend a focus group session and participate in a discussion of specific topics led by a moderator. Participation in the focus group sessions is voluntary. Participants will have to expend time, effort, and travel to participate in the focus group sessions. Following standard practice in marketing research, participants will be compensated for their time and effort. The offered compensation would also help to avoid the self selection bias that otherwise may result. To maximize the research value of the focus group sessions for stated preference survey design, EPA will proceed iteratively. The version of the focus group script available now in the ICR package will undergo several modifications based on findings from initial focus groups. The goal of subsequent modifications is to develop and refine survey questions to ensure greater clarity of survey questions and, as a result, validity of the survey responses. Modifications will also be tested in terms of their ability to eliminate or reduce biases that may occur in surveys that have undergone insufficient testing and development (Mitchell and Carson 1989). Based on the planned iterative modification of survey questions, the structure of subsequent draft survey instruments will depend on how people respond to surveys and questions in previous focus groups.

An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: EPA estimates that the public reporting and recordkeeping burden associated with the focus groups will average 160 minutes per respondent. The estimated total number of respondents is 96, producing an approximated 256 hours of total burden at a projected cost of $4,883. EPA estimates that there will be no capital and operating and maintenance cost burden.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: November 2, 2004.
Geoffrey H. Grubbs,
Director, Office of Science and Technology.

[FR Doc. 04-25942 Filed 11-22-04; 8:45 am]

BILLING CODE 6560-50-P